GENERAL SERVICES ADMINISTRATION

[Notice-MV-2014-01; Docket No. 2014-0002; Sequence 16]

Public Availability of General Services Administration FY 2013 Service Contract Inventory

AGENCY: General Services Administration (GSA).

ACTION: Notice of Public Availability of FY 2013 Service Contract Inventories.

SUMMARY: In accordance with Section 743 of Division C of Fiscal Year (FY) 2010 Consolidated Appropriations Act Public Law 111-117, GSA is publishing this notice to advise the public of the availability of the FY 2013 Service Contract Inventories.

DATES: April 30, 2014.

FOR FURTHER INFORMATION CONTACT: Questions regarding the Service Contract Inventory should be directed to Mr. Paul F. Boyle in the Office of Acquisition Policy at 202-501-0324 or Paul.Boyle@gsa.gov.

SUPPLEMENTARY INFORMATION: In accordance with Section 743 of Division C of Fiscal Year (FY) 2010 Consolidated Appropriations Act Public Law 111-117, GSA is publishing this notice to advise the public of the availability of the FY 2013 Service Contract Inventories. These inventories provide information on service contract actions over $25,000 that were made in FY 2013. The information is organized by function to show how contracted resources are distributed throughout the agency. The inventory has been developed in accordance with guidance issued on December 19, 2011 by the Office of Management and Budget's Office of Federal Procurement Policy (OFPP). OFPP's guidance is available at: http://www.whitehouse.gov/sites/default/files/omb/procurement/memo/service-contract-inventory-guidance.

The GSA has posted its inventory and a summary of the inventory on the GSA.Gov homepage at the following link: http://www.gsa.gov/gsasci.

Dated: April 25, 2014.
Jeffrey A. Koses,
Senior Procurement Executive, Deputy Chief Acquisition Officer, Office of Acquisition Policy, General Services Administration.

[FR Doc. 2014-09846 Filed 4-29-14; 8:45 am]

BILLING CODE 6820-61-P